DEPARTMENT OF ENERGY

National Coal Council; Meeting

AGENCY: Office of Fossil Energy, Department of Energy.

ACTION: Notice of open meetings.

SUMMARY: This notice announces a meeting of the National Coal Council (NCC). The Federal Advisory Committee Act requires that public notice of these meetings be announced in the Federal Register.

DATES: Wednesday, September 11, 2019, 8:00 p.m.-9:00 p.m.; Thursday, September 12, 2019, 8:30 a.m.-12:15 p.m.

ADDRESSES: Washington Marriott Wardman Park Hotel; 2660 Woodley Park Road NW, Washington, DC 20008.

FOR FURTHER INFORMATION CONTACT: Thomas Sarkus, U.S. Department of Energy, National Energy Technology Laboratory, Mail Stop 920-125, 626 Cochrans Mill Road, Pittsburgh, PA 15236-0940; Telephone: 412-386-5981; email: thomas.sarkus@netl.doe.gov.

SUPPLEMENTARY INFORMATION:

Purpose of the Council: The National Coal Council provides advice and recommendations to the Secretary of Energy on general policy matters relating to coal and the coal industry.

Purpose of Meeting: The 2019 Fall Meeting of the National Coal Council.

Tentative Agenda

Wednesday, September 11, 2019, 8:00 p.m.-9:00 p.m.

1. Reception and dinner from 6:00 p.m. to 8:00 p.m. (RSVP and payment required.);

2. At 8:00 p.m., call to order and opening remarks by Steven Winberg, NCC Designated Federal Officer & Assistant Secretary for Fossil Energy, U.S. Department of Energy;

3. Keynote Remarks by Neil Chatterjee, Chairman, Federal Energy Regulatory Commission;

4. Closing Remarks by Steven Winberg, NCC Designated Federal Officer and Assistant Secretary for Fossil Energy, U.S. Department of Energy;

5. Adjourn for the day.

Thursday, September 12, 2019, 8:30 a.m.-12:15 p.m.

6. Call to order and opening remarks by Steven Winberg, NCC Designated Federal Officer and Assistant Secretary for Fossil Energy, U.S. Department of Energy;

7. Keynote remarks by Dr. Brian J. Anderson, Director, National Energy Technology Laboratory, U.S. Department of Energy;

8. Industry keynote remarks by Hal Quinn, President and CEO of the National Mining Association;

9. Presentation by Hilary Moffett, Senior Director Government Relations of Low Carbon Ventures, LLC—A Subsidiary of Occidental Petroleum on Developing & Commercializing Innovative Low Carbon Technologies;

10. Presentation by Jason B. Selch, CEO of Enchant Energy on The Economic Case for Power Plant Carbon Capture Retrofits;

11. Presentation by Dr. Ian Reid, International Energy Agency—Clean Coal Centre on Non-Energy Uses for Coal;

12. Public Comment Period;

13. Other Business; and

14. Adjourn.

Attendees are requested to register in advance for the meeting at: http://www.nationalcoalcouncil.org/page-NCC-Events.html.

Public Participation: The meeting is open to the public. If you would like to file a written statement with the Council, you may do so either before or after the meeting. If you would like to make oral statements regarding any item on the agenda, you should contact Thomas Sarkus, 412-386-5981 or thomas.sarkus@netl.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the Council's website at: https://www.nationalcoalcouncil.org/.

Signed in Washington, DC, on August 6, 2019.
LaTanya R. Butler,
Deputy Committee Management Officer.

[FR Doc. 2019-17178 Filed 8-9-19; 8:45 am]

BILLING CODE 6450-01-P